DEPARTMENT OF ENERGY

Federal Energy Regulatory Commission

[Docket No. EC03-1-000, et al.]

Calpine Energy Services, Inc., et al.; Electric Rate and Corporate Regulation Filings

October 18, 2002.

The following filings have been made with the Commission. The filings are listed in ascending order within each docket classification.

1. Calpine Energy Services, L.P.

[Docket No. EC03-1-000]

Take notice that on October 11, 2002, Calpine Energy Services, L.P. tendered for filing with the Federal Energy Regulatory Commission (Commission) an application under section 204 of the Federal Power Act for approval of the acquisition of the securities of Calpine Northbrook Energy Marketing, LLC, an affiliated public utility.

Comment Date: November 1, 2002.

2. Southern California Edison Company

[Docket Nos. ER97-2355-007, ER98-1261-003, and ER98-1685-002]

Take notice that on October 15, 2002, Southern California Edison Company (SCE) tendered for filing a request for authority to refund to retail customers on December 1, 2002, transmission revenues associated with the reduction in SCE's Base Transmission Revenue Requirement that was ordered by the Federal Energy Regulatory Commission (Commission) in this docket, excluding any refund associated with the overhead allocation issue still pending at the Commission.

Comment Date: November 5, 2002.

3. Duquesne Light Company

[Docket No. ER03-47-000]

Take notice that on October 16, 2002, Duquesne Light Company (DLC) filed a Service Agreement for Retail Network Integration Transmission Service and a Network Operating Agreement for Retail Network Integration Transmission Service dated October 16, 2002 with Select Energy, Inc. under DLC's Open Access Transmission Tariff (Tariff). The Service Agreement and Network Operating Agreement adds Select Energy, Inc. as a customer under the Tariff.

DLC requests an effective date of October 16, 2002 for the Service Agreement.

Comment Date: November 6, 2002.

4. Tampa Electric Company

[Docket No. ER03-48-000]

Take notice that on October 16, 2002, Tampa Electric Company (Tampa Electric) tendered for filing proposed changes to the rates for Transmission and Ancillary services under its Open Access Transmission Tariff. Tampa Electric states that the changes include increases in the rates for transmission services, and both increases and decreases in rates for ancillary services. Tampa Electric requests that the rate changes be made effective on December 16, 2002.

Copies of the filing have been served on all customers under Tampa Electric's open access tariff and the Florida Public Service Commission.

Comment Date: November 6, 2002.

5. Riverside Energy Center, LLC

[Docket No. ER03-49-000]

Take notice that on October 16, 2002, Riverside Energy Center, LLC (the Applicant) tendered for filing, under section 205 of the Federal Power Act (FPA), a request for authorization to make wholesale sales of electric energy, capacity, replacement reserves, and ancillary services at market-based rates, to reassign transmission capacity, and to resell firm transmission rights. Applicant proposes to own and operate a 600 megawatt gas-fired, combined cycle electric generating facility in the Town of Beloit, Rock County, Wisconsin.

Comment Date: November 6, 2002.

6. Louisville Gas and Electric Company/ Kentucky Utilities Company

[Docket No. ER03-51-000]

Take notice that on October 16, 2002, Louisville Gas and Electric Company (LG&E)/Kentucky Utilities (KU) (hereinafter Companies) tendered for filing an executed Service Sales Agreement between Companies and Northern States Power Company under the Companies' Rate Schedule MBSS. This executed agreement replaces the Unexecuted Agreement filed with the Commission on June 18, 2002, Docket No. ER02-2086-000.

Comment Date: November 6, 2002.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.
Deputy Secretary.

[FR Doc. 02-28573 Filed 11-7-02; 8:45 am]

BILLING CODE 6717-01-P